DEPARTMENT OF EDUCATION

34 CFR Chapter VI

Regulatory Reform; Public Hearings

AGENCY: Office of Postsecondary Education, Department of Education.

ACTION: Notification of public hearings.

SUMMARY: In accordance with Executive Order 13777, “Enforcing the Regulatory Reform Agenda,” the Department of Education (Department) is seeking input on Department regulations related to postsecondary education that may be appropriate for repeal, replacement, or modification. We announce two public hearings at which interested parties may provide input.

DATES: The dates, times, and locations of the public hearings are listed under the SUPPLEMENTARY INFORMATION section of this document.

FOR FURTHER INFORMATION CONTACT: For further information on this document contact: Wendy Macias, U.S. Department of Education, 400 Maryland Ave. SW., Room 6C111, Washington, DC 20202. Telephone: (202) 203-9155 or by email: Wendy.Macias@ed.gov.

If you use a telecommunications device for the deaf (TDD) or text telephone (TTY), call the Federal Relay Service (FRS), toll free, at 1-800-877-8339.

SUPPLEMENTARY INFORMATION: On February 24, 2017, President Trump signed Executive Order 13777, “Enforcing the Regulatory Reform Agenda,” which established a Federal policy “to alleviate unnecessary regulatory burdens” on the American people. Section 3(a) of the Executive Order directs Federal agencies to establish a Regulatory Reform Task Force (Task Force). One of the duties of an agency Task Force is to evaluate existing regulations and “make recommendations to the agency head regarding their repeal, replacement, or modification.” The Executive Order further asks that each Task Force “attempt to identify regulations that:

(i) Eliminate jobs, or inhibit job creation;

(ii) Are outdated, unnecessary, or ineffective;

(iii) Impose costs that exceed benefits;

(iv) Create a serious inconsistency or otherwise interfere with regulatory reform initiatives and policies;

(v) Are inconsistent with the requirements of section 515 of the Treasury and General Government Appropriations Act, 2001 (44 U.S.C. 3516 note), or the guidance issued pursuant to that provision, in particular those regulations that rely in whole or in part on data, information, or methods that are not publicly available or that are insufficiently transparent to meet the standard for reproducibility; or

(vi) Derive from or implement Executive Orders or other Presidential directives that have been subsequently rescinded or substantially modified.”

Section 3(e) of the Executive Order calls on each Task Force to “seek input and other assistance, as permitted by law, from entities significantly affected by Federal regulations, including State, local, and tribal governments, small businesses, consumers, non-governmental organizations, and trade associations” on regulations that meet some or all of the criteria above. A “regulation” for this purpose “means an agency statement of general or particular applicability and future effect designed to implement, interpret, or prescribe law or policy or to describe the procedure or practice requirements of an agency. . . .” See Executive Order 13771, section 4.

On June 22, 2017, the Department published a notice in the Federal Register (82 FR 28431) soliciting written comments from the public to inform its Task Force's evaluation of all of the Department's existing regulations and guidance, including regulations and guidance related to postsecondary education programs, that have a policy impact. We are now announcing two public hearings that will supplement this effort by seeking public input on Department regulations and guidance specific to postsecondary education programs that may be appropriate for repeal, replacement, or modification. This includes regulations and guidance for the Federal Student Aid programs authorized under title IV of the Higher Education Act of 1965, as amended, as well as regulations and guidance for the institutional service, international and foreign language education, and student service programs.

Public Hearings

We will hold two public hearings:

• September 26, 2017, at Salt Lake Community College—Miller Campus, 9750 South 300 West, Karen Gail Miller Conference Center, Copper Creek Room A&B, Sandy, Utah 84070.

• October 4, 2017, at the U.S. Department of Education, 400 Maryland Ave. SW., Barnard Auditorium, Washington, DC 20202.

The public hearings will be held from 9:00 a.m. to 4:00 p.m., local time.

Individuals who would like to present comments at the public hearings must register by sending an email to operegreformhearings@ed.gov. The email should include the name of the presenter along with the public hearing at which the individual would like to speak, the general topic(s) the individual would like to address, and a general timeframe during which the individual would like to speak (for example, a presenter could indicate morning or afternoon, or before 11:00 a.m. or after 3:00 p.m.). We will attempt to accommodate each speaker's preference, but, if we are unable to do so, we will make the determination on a first-come first-served basis, based on the time and date the email was received. It is likely that each participant will be limited to five minutes. The Department will notify registrants of the location and time slot reserved for them. An individual may make only one presentation at the public hearings. If we receive more registrations than we are able to accommodate, the Department reserves the right to reject the registration of an entity or individual that is affiliated with an entity or individual that is already scheduled to present comments, and to select among registrants to ensure that a broad range of entities and individuals is allowed to present. We will accept walk-in registrations for any remaining time slots on a first-come first-served basis, beginning at 8:30 a.m. on the day of the public hearing at the Department's on-site registration table. Registration is not required to observe the public hearings; however, space may be limited.

The Department will post transcripts of the hearings to https://www2.ed.gov/policy/highered/reg/reform/2017/index.html. Although the Department will not be videoing the hearings, as this is a public meeting, speakers should be aware that they may be filmed or recorded by members of the public.

Accessible Format: Individuals with disabilities can obtain this document in an accessible format (e.g., braille, large print, audiotape, or compact disc) or register to present comments by contacting Wendy Macias, U.S. Department of Education, 400 Maryland Ave. SW., Room 6C111, Washington, DC 20202. Telephone: (202) 203-9155 or by email: Wendy.Macias@ed.gov.

Electronic Access to This Document: The official version of this document is the document published in the Federal Register. Free internet access to the official edition of the Federal Register and the Code of Federal Regulations is available via the Federal Digital System at: www.gpo.gov/fdsys. At this site you can view this document, as well as all other documents of this Department published in the Federal Register, in text or Portable Document Format (PDF). To use PDF you must have Adobe Acrobat Reader, which is available free at the site. You may also access documents of the Department published in the Federal Register by using the article search feature at: www.federalregister.gov. Specifically, through the advanced search feature at this site, you can limit your search to documents published by the Department.

Program Authority: 20 U.S.C. 1098a.

Dated: August 22, 2017.
Kathleen A. Smith,
Acting Assistant Secretary for Postsecondary Education.

[FR Doc. 2017-18104 Filed 8-24-17; 8:45 am]

BILLING CODE 4000-01-P